DEPARTMENT OF HEALTH AND HUMAN SERVICES

Establishment of the Advisory Board on Elder Abuse, Neglect, and Exploitation

AGENCY: Department of Health and Human Services, Administration on Aging.

ACTION: Notice.

Authority: The Advisory Board on Elder Abuse, Neglect, and Exploitation is authorized under section 2021, Subtitle H—Elder Justice Act, of the Affordable Care Act, Public Law 111-148. The Advisory Board is governed by provisions of Public Law 92-463, as amended, (5 U.S.C. App. 2), which sets forth standards for the formation and use of advisory committees.

SUMMARY: The U.S. Department of Health and Human Services announces establishment of the Advisory Board on Elder Abuse, Neglect, and Exploitation, as directed by section 2022, Subtitle H—Elder Justice Act, of the Affordable Care Act, Public Law 111-148.

FOR FURTHER INFORMATION CONTACT: Edwin Walker, Deputy Assistant Secretary for Program Operations, Department of Health and Human Services, Administration on Aging, Washington, DC 20201, Telephone: 202-357-3557, Fax: 202-357-3549.

SUPPLEMENTARY INFORMATION: Subtitle H—Elder Justice Act of the Affordable Care Act, Public Law 111-148, establishes the Advisory Board within the Department of Health and Human Services (HHS). To comply with the authorizing directive and guidelines under the Federal Advisory Committee Act (FACA), a charter has been filed with the Committee Management Secretariat in the General Services Administration (GSA), the appropriate committees in the Senate and U.S. House of Representatives, and the Library of Congress to establish the Advisory Board as a non-discretionary Federal advisory committee. The charter was filed on July 8, 2010.

Objectives and Scope of Activities

The Advisory Board on Elder Abuse, Neglect, and Exploitation (Advisory Board) is the Department's statutory public advisory body in the Elder Justice Act on creating short- and long-term multidisciplinary strategic plans for the development of the field of elder justice in the U.S. The Advisory Board will examine relevant research and identify best practices and make recommendations to the Elder Justice Coordinating Council and Congress regarding improving and enhancing Federal, State, and local elder justice programs, research, training, and coordination.

Membership and Designation

The Secretary is soliciting nominations for appointment to the 27-member Advisory Board from among members of the general public who are individuals with experience and expertise in elder abuse, neglect, and exploitation prevention, detection, treatment, intervention, or prosecution. Each member of the Advisory Board shall be appointed for a term of 3 years except that, of the members first appointed, 9 shall be appointed for a term of 3 years; 9 shall be appointed for a term of 2 years; and 9 shall be appointed for a term of 1 year. Nominations shall be submitted to: Edwin Walker, Deputy Assistant Secretary for Program Operations, Department of Health and Human Services, Administration on Aging, Washington, DC 20201, no later than August 15, 2010. Any vacancy on the Advisory Board shall not affect its powers, but shall be filled in the same manner as the original appointment was made. An individual chosen to fill a vacancy shall be appointed for the unexpired term of the member replaced. The Advisory Board shall elect a Chair and Vice Chair from among its members.

Administrative Management and Support

HHS will provide funding and administrative support for the Advisory Board to the extent permitted by law within existing appropriations. Management and oversight for support services provided to the Advisory Board will be the responsibility of the Administration on Aging, which is an operating division within HHS. Staff will be assigned to support the activities of the Advisory Board. All executive departments and agencies shall provide information to the Advisory Board as the Chair may request for purposes of carrying out the Advisory Board's functions, to the extent permitted by law. A copy of the Commission charter can be obtained from the designated contacts or by accessing the FACA database that is maintained by the GSA Committee Management Secretariat. The website for the FACA database is http://fido.gov/facadatabase/.

Dated: July 9, 2010.
Kathy Greenlee,
Assistant Secretary for Aging.

[FR Doc. 2010-17197 Filed 7-13-10; 8:45 am]

BILLING CODE 4154-01-P